DEPARTMENT OF THE INTERIOR

Fish and Wildlife Service

Draft Recovery Plan for Behren's Silverspot Butterfly (Speyeria zerene behrensii)

AGENCY: Fish and Wildlife Service, Interior.

ACTION: Notice of document availability for review and comment.

SUMMARY: The U.S. Fish and Wildlife Service (“we”) announces the availability of the Draft Recovery Plan for Behren's Silverspot Butterfly (Speyeria zerene behrensii). This draft recovery plan includes specific criteria and measures to be taken in order to effectively recover the species to the point where delisting is warranted. We solicit review and comment from local, State, and Federal agencies, and the public on this draft recovery plan.

DATES: Comments on the draft recovery plan must be received on or before March 22, 2004 to receive our consideration.

ADDRESSES: Copies of the recovery plan are available for inspection, by appointment, during normal business hours at the following location: U.S. Fish and Wildlife Service, Arcata Fish and Wildlife Office, 1655 Heindon Road, Arcata, California 95521. Requests for copies of the draft recovery plan and written comments and materials regarding the plan should be addressed to the Field Supervisor at the above address. Electronic comments on the draft recovery plan can be sent via e-mail to: fw1_behrenssilverspot@fws.gov. An electronic copy of the draft recovery plan is also available at http://www.pacific.fws.gov/ecoservices/endangered/recovery/default.htm.

FOR FURTHER INFORMATION CONTACT: Jim Watkins, Fish and Wildlife Biologist, at the above Arcata address (telephone: 707-822-7201).

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice and an opportunity for public review and comment be provided during recovery plan development. We will consider all information presented during the public comment period prior to approval of each new or revised recovery plan. Substantive technical comments may result in changes to the plan. Substantive comments regarding recovery plan implementation may not necessarily result in changes to the recovery plan, but will be forwarded to appropriate Federal or other entities so that they can take these comments into account during the course of implementing recovery actions. Individual responses to comments will not be provided.

The Behren's silverspot butterfly occupies early successional coastal terrace prairie habitat that contains Viola adunca (early blue violet), the larval host plant, adult nectar sources, and adult courtship areas. Several populations have apparently been extirpated, and the species likely remains at a single location near Point Arena, Mendocino County, California. It was federally listed as an endangered species on December 5, 1997 (62 FR 64306). Threats include invasion by exotic species, natural succession, fire suppression, residential development, and collection.

This draft recovery plan includes conservation measures designed to ensure that a self-sustaining population of Behren's silverspot butterfly will continue to exist, distributed throughout its extant and historic range. Specific recovery actions focus on protection and management of suitable habitat with larval food plants. The draft recovery plan also addresses the need to re-establish multiple populations of Behren's silverspot butterfly within its historic range. The ultimate objective of this recovery plan is to delist Behren's silverspot butterfly through implementation of a variety of recovery actions including: (1) Protecting existing habitat; (2) locating or establishing new metapopulations; (3) developing and implementing management plans; (4) monitoring metapopulations and habitat; and (5) reducing take and sources of mortality.

Public Comments Solicited

We solicit written comments on the draft recovery plan described. All comments received by the date specified above will be considered in developing a final recovery plan.

Authority

The authority for this action is section 4(f) of the Endangered Species Act, 16 U.S.C. 1533(f).

Dated: November 5, 2003.
Steve Thompson,
Manager, California/Nevada Operations Office, Region 1, Fish and Wildlife Service.

[FR Doc. 04-1121 Filed 1-16-04; 8:45 am]

BILLING CODE 4310-55-P